DEPARTMENT OF THE INTERIOR

Fish and Wildlife Service

50 CFR Part 17

[Docket No. FWS-HQ-ES-2024-0187; FXES1113090FEDR-256-FF09E21000]

Endangered and Threatened Wildlife and Plants; 90-Day Finding on Two Petitions for Gray Wolf

AGENCY: Fish and Wildlife Service, Interior.

ACTION: Notification of petition finding.

SUMMARY: We, the U.S. Fish and Wildlife Service (Service), announce a 90-day finding on two concurrently filed companion petitions to revise the currently listed gray wolf (Canis lupus) entities under the Endangered Species Act of 1973, as amended (Act or ESA). Together, the petitions requested that the Service: designate and delist a Western Great Lakes (WGL) distinct population segment (DPS) of gray wolf due to recovery; and designate a West Coast States DPS of gray wolf and list it as a threatened species, and potentially delist the remnant areas of the gray wolf entity in the lower 48 States due to extinction. Based on our review, we find that the petitions do not present substantial scientific or commercial information indicating that the petitioned actions may be warranted.

DATES: This finding was made on January 8, 2025.

ADDRESSES: Supporting documents: A summary of the basis for the petition finding contained in this document is available on https://www.regulations.gov in Docket No. FWS-HQ-ES-2024-0187. In addition, this supporting information is available by contacting the appropriate person, as specified in FOR FURTHER INFORMATION CONTACT.

FOR FURTHER INFORMATION CONTACT: Rachel London, Manager, Branch of Delisting and Foreign Species, Ecological Services Headquarters; telephone: 703-358-2491; email: rachel_london@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

When evaluating a petition, we must also consider whether the petitioned entity may be a listable entity under the Act, i.e., a species, a subspecies, or a potential distinct population segment (DPS) of a vertebrate species or subspecies. The evaluation of the taxonomic status of a species or subspecies or the validity of a potential DPS centers on whether the information presented in the petition reaches the substantial information threshold. It is not within our purview to determine taxonomic status or DPS validity in a 90-day petition evaluation; rather, we evaluate information submitted by the petitioners to determine whether the information indicates the petitioned entity may be a listable entity under the Act. We will not expand the scope of our evaluation beyond the petitioned entities, including various combinations of DPSs.

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

Summary of Petition Finding

Species and Range

Currently Listed Entities

• Gray wolf (Canis lupus) is listed as endangered in all or portions of 43 of the contiguous United States (all of Alabama, Arkansas, California, Connecticut, Delaware, Florida, Georgia, Iowa, Indiana, Illinois, Kansas, Kentucky, Louisiana, Massachusetts, Maryland, Maine, Michigan, Missouri, Mississippi, North Carolina, North Dakota, Nebraska, New Hampshire, New Jersey, Nevada, New York, Ohio, Oklahoma, Pennsylvania, Rhode Island, South Carolina, South Dakota, Tennessee, Texas, Virginia, Vermont, Wisconsin, and West Virginia; and portions of Arizona, New Mexico, Oregon, Utah, and Washington) and Mexico. This entity also includes a designated nonessential experimental population in Colorado.

• Gray wolf (Canis lupus) is listed as threatened in Minnesota.

Petitioned Actions for Revising the Currently Listed Entities

Petitioners asked us to revise the currently listed gray wolf entities by splitting and/or combining the current listings for gray wolf into one or more DPSs and a non-DPS remnant (Sportsmen's Alliance Foundation et al. 2023b, pp. 25-26, footnote 52).

Evaluation of Information Summary

On June 29, 2023, we received two concurrently filed “companion” petitions from the Sportsmen's Alliance Foundation, Michigan Bear Hunters Association, Upper Peninsula Bear Houndsmen Association, and Wisconsin Bear Hunters Association (petitioners). Petitioners urged us to consider their petitions simultaneously (Sportsmen's Alliance Foundation et al. 2023a, p. 34).

In one petition, petitioners asked us to designate a Western Great Lakes (WGL) DPS of gray wolf and remove that petitioned DPS from the List of Endangered and Threatened Wildlife because the DPS does not meet the Act's definition of an endangered or threatened species (Sportsmen's Alliance Foundation et al. 2023a, entire). Petitioners also presented claims related to currently listed gray wolves outside of the Western Great Lakes, and provided two suggestions for how the Service should address these wolves. First, petitioners stated that the non-DPS remnant is a listable entity that would be entitled to the continued protections of the Act (Sportsmen's Alliance Foundation et al. 2023a, p. 35) (“The circumstances here warrant continuing protections for remnant wolves in the original Lower 48 wolf listing through a non-DPS remnant listing.”). Alternatively, they suggested that the Service could adopt the approach in their companion petition and protect West Coast wolves as a DPS (Sportsmen's Alliance Foundation et al. 2023a, p. 36) (“Alternatively, even if the Service does not continue a “non-DPS remnant” listing under the original Lower 48 listing, delisting the WGL DPS will not result in the elimination of protections for the remnant population because the remnant West Coast [w]olves satisfy the criteria to be listed as a DPS if ESA protections are warranted.”).

In their companion petition, petitioners proposed two specific actions for addressing listed gray wolves in the lower 48 States outside of the petitioned WGL DPS: (1) recognize a non-DPS remnant and continue endangered species protections for the non-DPS remnant; and (2) recognize a West Coast DPS of gray wolf and reclassify the petitioned DPS from an endangered species to a threatened species under the Act (Sportsmen's Alliance Foundation et al. 2023b, entire). Petitioners did not ask the Service to assign any specific status to the remainder of the listed entity if the second action is implemented, but they suggested that we might delist all the remnant areas not included within the two petitioned DPSs due to extinction. Finally, petitioners clarified that we should take one, or preferably both, actions concurrent with recognizing and delisting a WGL DPS.

Each petition clearly identified itself as such and included the requisite identification information for the petitioners, required at 50 CFR 424.14(c). As requested by the petitioners, we are evaluating their petitions jointly and this finding addresses both petitions.

Finding

Based on our review of the petitions, sources cited in the petitions, and other readily available information (within the constraints of the Act and 50 CFR 424.14(h)(1)), we find that the petitions do not provide substantial scientific or commercial information indicating that the petitioned actions may be warranted. The petitioners failed to present substantial information for us to conclude that the petitions, considered together, provide a valid approach for revising the current gray wolf (Canis lupus) listed entities. As requested by petitioners, we have considered these petitions jointly. Based on our review of the petitions, we find that petitioners provide substantial information that the Western Great Lakes population of gray wolf may qualify as a valid DPS under the Act. However, we find that the petitions do not provide substantial information supporting the petitioned action with respect to gray wolves outside of the Western Great Lakes. They fail to provide substantial scientific or commercial information indicating that a gray wolf remnant in the lower 48 States or a West Coast gray wolf population may constitute a valid listable entity under the Act. Thus, we do not further consider whether revising the currently listed gray wolf entities to recognize a Western Great Lakes DPS and delist it due to recovery may be warranted. The basis for our finding on these petitions and other information regarding our review of the petitions can be found as an appendix at https://www.regulations.gov under Docket No. FWS-HQ-ES-2024-0187 under the Supporting Documents section.

Conclusion

On the basis of our evaluation of the information presented in the petitions under section 4(b)(3)(A) of the Act, we have determined that the petitions summarized above for the gray wolf do not present substantial scientific or commercial information indicating that the petitioned actions may be warranted. Therefore, we will not further consider whether the petitioned revisions to the currently listed gray wolf entities are warranted.

Authors

The primary authors of this document are staff members of the Branch of Delisting and Foreign Species, Ecological Services Program, U.S. Fish and Wildlife Service.

Authority

The authority for this action is the Endangered Species Act of 1973, as amended (16 U.S.C. 1531 et seq.)

Stephen Guertin,
Acting Director, U.S. Fish and Wildlife Service.

[FR Doc. 2024-31754 Filed 1-7-25; 8:45 am]

BILLING CODE 4333-15-P